DEPARTMENT OF TRANSPORTATION

Federal Aviation Administration

Notice of Availability of a Final Programmatic Environmental Assessment and Finding of No Significant Impact/Record of Decision

AGENCY: Federal Aviation Administration (FAA), Department of Transportation (DOT).

ACTION: Notice of availability.

SUMMARY: The Federal Aviation Administration announces the availability of a Final Programmatic Environmental Assessment and Finding of No Significant Impact/Record of Decision for the Bipartisan Infrastructure Law-funded Airport Traffic Control Tower Replacement Program.

FOR FURTHER INFORMATION CONTACT: For technical questions concerning this notice, contact Aaron W. Comrov, Environmental Team Lead, FAA CSA ES EOSH Center (AJW-2C16E), 2300 East Devon Avenue, Room 450, Des Plaines, IL 60018; telephone: (847) 294-7665; email: aaron.comrov@faa.gov.

SUPPLEMENTARY INFORMATION: The Final Programmatic Environmental Assessment (PEA) considers the conditions and potential environmental impacts from the Proposed Action to replace numerous FAA-owned airport traffic control towers (ATCT) with modern facilities under the Bipartisan Infrastructure Law (BIL)-funded ATCT Replacement Program. Many existing ATCTs at municipal or general aviation airports are outdated and operating past their design life. The purpose and need for the proposed program is to replace select FAA-owned ATCTs with modern ATCTs while providing uninterrupted air traffic control services. The FAA has prepared the Final PEA and Finding of No Significant Impact (FONSI)/Record of Decision (ROD) in conformance with the requirements of the National Environmental Policy Act of 1969 (NEPA) and FAA Order 1050.1F, Environmental Impacts: Policies and Procedures. The Final PEA analyzes the potential environmental impacts that may result from construction and operation of the proposed new ATCTs and decommissioning and removal of the existing ATCTs (the Proposed Action), as well as the No Action Alternative (i.e., not constructing and operating the proposed new ATCTs). The Final PEA reflects consideration of comments received during the public comment period for the Draft PEA, which was open from June 28, 2023 through July 31, 2023.

The Proposed Action would provide for modern, operationally efficient ATCTs, which would be designed to meet the energy and sustainability requirements of FAA's Terminal Facilities Design Standard while adhering to the Council on Environmental Quality's Guiding Principles for Sustainable Federal Buildings and Associated Instructions. The proposed replacement ATCTs would enable the installation of modern air traffic control equipment, provide adequate space and an enhanced work environment for FAA personnel, lower operating costs, and improve environmental performance resulting in energy savings, water efficiency, reduced carbon emissions, and improved indoor air quality while meeting applicable FAA requirements.

Based on this analysis, the FAA determined there will not be a significant impact to the human environment from implementation of the Proposed Action and an Environmental Impact Statement (EIS) is not required. The FAA intends for this PEA to create efficiencies by establishing a “tiering” framework, where appropriate, to project-specific actions that require additional analysis. As decisions on specific project sites are made, to the extent additional NEPA analysis is required, environmental reviews would be conducted to supplement the analysis set forth in the PEA.

The Final PEA and FONSI/ROD are available on the project website (http://www.faa.gov/air_traffic_atf).

Issued in Des Plaines, Illinois, on October 12, 2023.
Aaron W. Comrov,
Environmental Team Lead, FAA CSA ES EOSH Center, AJW-216E.

[FR Doc. 2023-22935 Filed 10-17-23; 8:45 am]

BILLING CODE 4910-13-P